ENVIRONMENTAL PROTECTION AGENCY

[FRL-10492-01-R6]

Clean Air Act Operating Permit Program; Petition for Objection to State Operating Permits for Lucid Energy Delaware, LLC, Frac Cat and Big Lizard Compressor Stations, Lea County, New Mexico

AGENCY: Environmental Protection Agency (EPA).

ACTION: Notice of final Order on Petitions for objection to two Clean Air Act title V operating permits.

SUMMARY: The Environmental Protection Agency (EPA) Administrator signed an Order dated November 16, 2022, granting in part and denying in part two Petitions dated June 15, 2022, and September 26, 2022, from WildEarth Guardians (collectively, the Petitions). The Petitions requested that the EPA object to two Clean Air Act (CAA) title V operating permits issued by the New Mexico Environmental Department's Air Quality Bureau (AQB) to the Lucid Delaware Energy, LLC (Lucid) Frac Cat Compressor Station (Frac Cat) and the Lucid Big Lizard (Big Lizard) Compressor Station, both located in Lea County, New Mexico. EPA notes that the AQB approved an Administrative Amendment transferring ownership of both facilities from Lucid Delaware Energy, LLC to Targa Northern Delaware, LLC on November 10, 2022.

ADDRESSES: The EPA requests that you contact the individual listed in the FOR FURTHER INFORMATION CONTACT section to view copies of the final Order, the Petition, and other supporting information. Out of an abundance of caution for members of the public and our staff, the EPA Region 6 office may be closed to the public to reduce the risk of transmitting COVID-19. Please call or email the contact listed below if you need alternative access to the final Order and Petition, which are available electronically at: https://www.epa.gov/title-v-operating-permits/title-v-petition-database.

FOR FURTHER INFORMATION CONTACT: Elizabeth Layton, EPA Region 6 Office, Air Permits Section, (214) 665-2136, layton.elizabeth@epa.gov.

SUPPLEMENTARY INFORMATION: The CAA affords the EPA a 45-day period to review and object to, as appropriate, operating permits proposed by state permitting authorities under title V of the CAA. Section 505(b)(2) of the CAA authorizes any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or unless the grounds for the issue arose after this period.

The EPA received two petitions from WildEarth Guardians dated June 15, 2022, and September 26, 2022 (collectively, the Petitions), requesting that the EPA Administrator object to the issuance of final operating permit No. P288 issued by the AQB to the Lucid Energy Delaware, LLC Frac Cat Compressor Station as well as final operating permit No. P289, issued by AQB to the Lucid Energy Delaware, LLC Big Lizard Compressor Station (the Final Permits). Both facilities are located in Lea County, New Mexico.

The Petitions claim that the Final Permits fail to assure compliance with applicable title V permitting regulations pertaining to the “timely and complete” requirements for title V renewal applications, the Final Permits fail to ensure the facilities operate in compliance with the New Mexico State Implementation Plan (SIP) by lacking a reasoned explanation, basis, or analysis demonstrating how the Final Permits will ensure the operation of the facilities will not cause or contribute to an exceedance in the National Ambient Air Quality Standard (NAAQS) for ozone. The Petitions also claim the Final Permits fail to require sufficient periodic monitoring that is enforceable as a practical matter to ensure compliance with applicable emission limits.

On November 16, 2022, the EPA Administrator issued an Order granting in part and denying in part the Petitions. The Order explains the basis for the EPA's decision.

Dated: December 14, 2022.
David Garcia,
Director, Air and Radiation Division, Region 6.

[FR Doc. 2022-27512 Filed 12-19-22; 8:45 am]

BILLING CODE 6560-50-P